DEPARTMENT OF STATE

22 CFR Part 94

[Public Notice 6417]

Procedures for Children Abducted to the United States; Final Rule

AGENCY: Department of State.

ACTION: Final rule.

SUMMARY: The Department of State is adopting as a final rule the regulations regarding incoming parental abduction cases pursuant to the Hague Convention on the Civil Aspects of International Child Abduction. Incoming cases will be processed by the United States Central Authority (USCA), the Office of Children's Issues in the Bureau of Consular Affairs within the U.S. Department of State or an entity designated by the USCA.

DATES: This rule is effective October 30, 2008.

FOR FURTHER INFORMATION CONTACT: Corrin M. Ferber, CA/OCS/PRI, U.S. Department of State, Room 4039, 2201 C Street, NW., Washington, DC 20520; telephone: (202) 736-9172 (this is not a toll free number). Hearing- or speech-impaired persons may use the Telecommunications Devices for the Deaf (TDD) by contacting the Federal Information Relay Service at 1-800-877-8339.

SUPPLEMENTARY INFORMATION: These regulations were originally published as an interim final rule on August 15, 2008, Volume 73, Number 159, page 47829-47831. No comments were received and we are adopting these regulations as final without change.

Since 1988, the Department of State has served as the United States Central Authority (USCA) under the Hague Convention on the Civil Aspects of International Child Abduction (Hague Convention). The Office of Children's Issues (CI) in the Department's Bureau of Consular Affairs serves as the primary point of contact for abduction cases and is responsible for processing all Hague Convention applications seeking the return of children wrongfully removed or retained in the United States from any other Hague Convention contracting state. In addition, CI is responsible for facilitating access rights under the Hague Convention. In FY 2007, CI processed approximately 575 cases involving 821 children who were allegedly abducted from or retained outside the United States in other Hague contracting countries. Another 355 cases involving 518 children who were allegedly abducted to or retained in the United States from other Hague contracting countries were also processed in FY2007 (Hague incoming cases).

The processing of incoming Hague Convention applications requires case officers to communicate with foreign Central Authorities about incoming cases, to determine the whereabouts of children wrongfully taken to the United States, to attempt to promote the voluntary return of abducted children, and to facilitate the initiation of judicial proceedings with a view toward securing the return of abducted children. Many of the case officer functions involve extensive contact with local law enforcement officials, social service agencies, legal aid organizations and local bar associations.

22 CFR Part 94 is being amended to reflect the fact that CI will resume case officer functions for Hague Convention cases where a child has been abducted to or retained in the United States, or will select an entity to assist the Central Authority to carry out these obligations. Since 1996, these functions have been carried out by the National Center for Missing and Exploited Children (NCMEC). See 61 FR 7069 (Feb. 26, 1996); 60 FR 66073 (Dec. 21, 1995). CI continued to perform the remaining USCA functions during this time and retained ultimate responsibility for all incoming cases, while the Department of State retained all inherently governmental functions, including matters of Hague Convention interpretation and policy direction. In March 2008, in an effort to reintegrate these various USCA functions, CI significantly modified its agreement with the Department of Justice's Office of Juvenile Justice and Delinquency Prevention and NCMEC such that CI would resume the case officer functions.

This change reflects the expansion of CI's capacity to manage the full range of case officer functions for incoming Hague abduction cases. During the past 12 years, CI has significantly increased its capacity to carry out casework, including its ability to liaise with other federal agencies; federal, state and local law enforcement; domestic and foreign social service agencies, non-governmental organizations; legal aid organizations; and local bar associations. The Office of the Inspector General (OIG) noted in its 2005 report that case officers exhibit the necessary combination of tact, empathy, and professionalism required to do this work. Further, it noted that the ability and commitment of the caseworkers was evident and well supported by management team within CI. The findings of the OIG indicate that CI has developed the necessary tools to manage incoming casework since entering into its initial agreement with NCMEC in 1995. This development, coupled with CI's desire to provide consistent, efficient services to parents, and an interest in maintaining clear communications with foreign Central Authorities, makes this an appropriate time for CI to resume responsibility for handling incoming Hague Convention cases, or, alternatively, to select an entity to assist in the carrying out of these functions.

The Department of State originally published this as an interim final rule on August 15, 2008, Volume 73, Number 159, page 47829-47831. No comments were received.

Regulatory Findings

The Department is publishing this rule in accordance with the exemption contained in 5 U.S.C. 553(a)(2) for matters relating to agency management or personnel. The transfer of responsibility over incoming Hague Convention cases back to the Office of Children's Issues at the Department of State primarily affects internal workload distribution and management of the USCA functions.

Regulatory Flexibility Act/Executive Order 13272: Small Business

Since this action is exempt from notice and comment procedures contained in 5 U.S.C. 553, and no other statute mandates such procedures, no analysis under the Regulatory Flexibility Act (5 U.S.C. 601 et seq.) is required. However, these changes to the regulations are not expected to have a significant impact on a substantial number of small entities under the criteria of the Regulatory Flexibility Act, 5 U.S.C. 601-612, and Executive Order 13272, section 3(b).

The Small Business Regulatory Enforcement Fairness Act of 1996

This final rule is not a major rule, as defined by 5 U.S.C. 804, for purposes of congressional review of agency rulemaking under the Small Business Regulatory Enforcement Fairness Act of 1996, Public Law 104-121. This rule will not result in an annual effect on the economy of $100 million or more; a major increase in costs or prices; or significant adverse effects on competition, employment, investment, productivity, innovation, or the ability of the United States-based companies to compete with foreign-based companies in domestic and export markets.

The Unfunded Mandates Reform Act of 1995

Section 202 of the Unfunded Mandates Reform Act of 1995 (UFMA), Public Law 104-4, 109 Stat. 64, 2 U.S.C. 1532, generally requires agencies to prepare a statement before proposing or adopting any rule that may result in an annual expenditure of $100 million or more (adjusted annually for inflation) by state, local, or tribal governments, or by the private sector. This rule will not result in any such expenditure nor will it significantly or uniquely affect small governments.

Executive Orders 12372 and 13132: Federalism

This rule does not have federalism implications warranting the application of Executive Orders No. 12372 and No. 13132. It will not have substantial direct effects on the States, on the relationship between the national government and the States, or on the distribution of power and responsibilities among the various levels of government.

Executive Order 12866: Regulatory Review

The Department of State does not consider this final rule to be a “significant regulatory action” under Executive Order 12866, section 3(f), Regulatory Planning and Review. In addition, the Department is generally exempt from Executive Order 12866 except to the extent that it is promulgating regulations in conjunction with a domestic agency that are significant regulatory actions. The Department has nevertheless reviewed the regulation to ensure its consistency with the regulatory philosophy and principles set forth in that Executive Order.

Executive Order 12988: Civil Justice Reform

The Department has reviewed the regulations in light of sections 3(a) and 3(b)(2) of Executive Order No. 12988 to eliminate ambiguity, minimize litigation, establish clear legal standards, and reduce burden.

The Paperwork Reduction Act of 1995

Under the Paperwork Reduction Act of 1995 (PRA), 44 U.S.C. 3501, et seq., Federal agencies must obtain approval from OMB for most collections of information they conduct, sponsor, or require through regulation. The Department of State has determined that this rule does not require new collection of information for purposes of the PRA.

List of Subjects in 22 CFR Part 94

Infants and children, Reporting and recordkeeping requirements, Treaties.

For the reasons set forth in the preamble, 22 CFR Part 94 is amended to read as follows:

PART 94—INTERNATIONAL CHILD ABDUCTION

Accordingly, the interim final rule amending 22 CFR 94 which was published at 73 FR 47829 on August 15, 2008, is adopted as a final rule without change.

[FR Doc. E8-25929 Filed 10-29-08; 8:45 am]

BILLING CODE 4710-06-P